DEPARTMENT OF AGRICULTURE

Forest Service

Coconino Resource Advisory Committee

AGENCY: Forest Service, USDA.

ACTION: Notice of meeting.

SUMMARY: The Coconino Resource Advisory Committee will meet in Flagstaff, Arizona, to hear project proposals, review submissions and make decisions on which proposals will be recommended to the Designated Federal Official.

DATES: Project proposals will be heard on May 4, 2011, beginning at 9 a.m. until 4 p.m. The committee will also meet on May 5, 2011 from 9 a.m. to 5 p.m. to review presentations and decide which proposals to recommend, and the committee has also set aside May 6, 2011, from 9 a.m. to 5 p.m., as a day and time to meet in the case that more time is necessary to review projects and make decisions on proposals.

ADDRESSES: All of these meetings will be held in the Flagstaff City Hall Chambers, 211 W. Aspen, Flagstaff, Arizona. Send written comments to Brady Smith, RAC Coordinator, Coconino Resource Advisory Committee, c/o Forest Service, USDA, 1824 S. Thompson St., Flagstaff, Arizona 86001 or electronically to bradysmith@fs.fed.us.

FOR FURTHER INFORMATION CONTACT: Brady Smith, (928) 527-3490.

Dated: March 22, 2011.
Kristin Bail,
Acting Forest Supervisor, Coconino National Forest.

[FR Doc. 2011-7208 Filed 3-25-11; 8:45 am]

BILLING CODE 3410-11-P